DEPARTMENT OF THE INTERIOR

Fish and Wildlife Service

[Docket No. FWS-R3-ES-2025-0245; FXES11130300000-256-FF03E00000]

Application for Enhancement of Survival Permit, University of Illinois at Chicago; Draft Conservation Benefit Agreement for Eleven Bumble Bee Species

AGENCY: Fish and Wildlife Service, Interior.

ACTION: Notice of availability; request for comments.

SUMMARY: We, the U.S. Fish and Wildlife Service, have received an application from University of Illinois at Chicago (applicant), for an enhancement of survival (EOS) permit under the Endangered Species Act of 1973, as amended (ESA). The application is supported by the proposed “Nationwide Conservation Benefit Agreement for Bumble Bees on Energy and Transportation Lands” (CBA) in the conterminous 48 United States. The intent of the CBA is to provide non-Federal landowners in the covered area with the opportunity to voluntarily conserve the covered species and associated habitat while carrying out on-going operations in a manner that would result in a net conservation benefit to the species. We have made a preliminary determination that the CBA and permit application are eligible for a categorical exclusion under the National Environmental Policy Act of 1969. The basis for this determination is contained in a categorical exclusion checklist, which is available for public review. If approved, the EOS permit would be for a 35-year period following the signature of the EOS and would authorize the incidental take of the endangered rusty patched bumble bee and endangered Franklin's bumble bee. The EOS would also authorize the incidental take of the American bumble bee, variable cuckoo bumble bee, western bumble bee, Suckley's cuckoo bumble bee, crotch bumble bee, southern plains bumble bee, Morrison bumble bee, yellow banded bumble bee, and Ashton's cuckoo bumble bee, if any of these species were to be listed under the ESA.

DATES: We must receive written comments on the application by February 23, 2026.

ADDRESSES:

Obtaining Documents: The documents this notice announces, as well as any comments and materials that we receive, will be available for public inspection online in Docket No. FWS-R3-ES-2025-0245 at https://www.regulations.gov.

Submitting Comments: If you wish to submit comments on any of the documents, you may do so in writing by one of the following methods:

• Online: https://www.regulations.gov. Follow the instructions for submitting comments on Docket No. FWS-R3-ES-2025-0245.

• U.S. Mail: Public Comments Processing; Attn: Docket No. FWS-R3-ES-2025-0245; U.S. Fish and Wildlife Service; MS: PRB/3W; 5275 Leesburg Pike, Falls Church, VA 22041-3803.

FOR FURTHER INFORMATION CONTACT: Kathryn Bulliner, Section 10 Supervisory Biologist, Division of Endangered Species, Midwest Regional Office; telephone 573-476-9136, email kathryn_bulliner@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), make available for public comment an application we received from the University of Illinois at Chicago (UIC) for an enhancement of survival permit (permit) under section 10(a)(1)(A) of the Endangered Species Act (ESA; 16 U.S.C. 1531 et seq.) supported by the CBA and the associated draft categorical exclusion checklist. The permit application includes an integrated draft CBA for the rusty patched bumble bee (Bombus affinis), Franklin's bumble bee (B. franklini), American bumble bee (B. pensylvanicus), variable cuckoo bumble bee (B. variabilis), western bumble bee (B. occidentalis), Suckley's cuckoo bumble bee (B. suckleyi), crotch bumble bee (B. crotchii), southern plains bumble bee (B. fraternus), Morrison bumble bee (B. morrisoni), yellow banded bumble bee (B. terricola), and Ashton's cuckoo bumble bee (B. ashtoni) (hereafter collectively referred to as the Covered Species) throughout the 48 conterminous United States.

The CBA and associated permit would implement a voluntary conservation strategy developed by the UIC for energy and transportation activities on enrolled lands. These activities include conservation measures to restore, maintain, enhance, or create habitat for the Covered Species, as well as activities to conduct on-going maintenance, management, and minor modernization activities within existing rights-of-way and associated lands. The intent of the CBA is to provide non-Federal landowners with the opportunity to voluntarily conserve bumble bees and their habitat on enrolled properties while carrying out their operations in a manner that would result in a net conservation benefit to the Covered Species.

We also announce the availability of a draft categorical exclusion checklist supporting our determination that the proposed action qualifies for a categorical exclusion under the National Environmental Policy Act (NEPA; 42 U.S.C. 4321 et seq.). We are making the permit application, including the draft CBA, and draft categorical exclusion checklist, available for public review and comment.

Background

A CBA is an agreement with the Service in which private and other non-Federal landowners voluntarily agree to undertake on-going management activities and conservation efforts on their properties to enhance, restore, or maintain habitat to benefit species that are either listed or at-risk for listing under the ESA. The Service works with these partners to identify threats to Covered Species, plan the measures needed to address the threats and conserve these species, identify willing landowners, develop agreements, and design and implement conservation measures and monitor their effectiveness. In return for managing their lands to the benefit of the species covered by the CBA, participating property owners receive assurances that the Service will not require additional or different conservation measures to be undertaken by the permittee without their consent as described in the Code of Federal Regulations (CFR) at 50 CFR 17.22(c)(5) and 17.32(c)(5).

The Service provides these assurances through an enhancement of survival (EOS) permit, issued pursuant to section 10(a)(1)(A) of the ESA for a specific number of years, that becomes effective for listed species upon issuance. For non-listed Covered Species, the take authorized through the permit becomes effective upon the effective date of the species' listing provided the permittee signed the permit within 90 calendar days of issuance and has properly implemented the conservation benefit agreement since signing the permit. Under the permit, participating landowners also receive authorization for take that is incidental to activities covered by the CBA. In a case such as this, in which a third-party would administer the CBA, the permit is issued to the third-party administrator, the UIC in this case, and permit coverage extends to non-Federal landowners who enroll in the agreement through a Certificate of Inclusion (CI) and comply with the requirements stated in the agreement and their respective CIs. Additional permit application requirements and issuance criteria for CBAs are found in 50 CFR 17.22(c) and 17.32(c), respectively, as well as 50 CFR part 13.

Because the CBA participants' rights-of-way may cross Federal as well as non-Federal lands, the UIC is proposing an integrated CBA approach modeled after the “Nationwide Candidate Conservation Agreement for Monarch Butterfly on Energy and Transportation Lands” and associated EOS permit to provide a seamless implementation of the conservation strategy across enrolled non-Federal and Federal lands at a landscape level.

While the integrated agreement applies throughout enrolled lands, neither Federal agencies nor non-Federal partners would receive EOS permit coverage or “assurances” on activities conducted on enrolled lands that cross Federal property. Although there are no assurances associated with Federal lands, enrollees have a high degree of certainty that no additional conservation measures, beyond those contained in this CBA, will be required on Federal lands for listed and any at-risk Covered Species that becomes listed under the ESA in the future. The CBA provides a conservation strategy that results in a net conservation benefit to bumble bee species throughout the lands enrolled in the agreement. Private and non-Federal partners in energy and transportation sectors are encouraged to enter the CBA through the UIC.

Proposed Action

The proposed action involves the issuance of a section 10(a)(1)(A) EOS permit by the Service to UIC and approval of the proposed CBA. The purpose of these agreements and permits are to implement a conservation strategy that benefits Covered Species throughout their range in the conterminous United States. The UIC would administer the CBA and enroll eligible applicants, who would hold CIs, as described in the CBA. The CBA and associated permit are proposed to cover 35 years from the time the EOS permit is signed.

Under the proposed CBA, UIC and partners who enroll into the agreement through UIC would create, enhance, and maintain Covered Species foraging, nesting, and overwintering habitat, as well as continue on-going activities supporting operations of energy and transportation sectors, including general operations, vegetation management, and maintenance and minor modernization activities within existing rights-of-way and associated lands. The proposed CBA does not include construction and land disturbing activities that pose significant environmental, socioeconomic, historical or cultural impacts (for example, new interstate highways, new pipelines, new transmission lines, new rail routes, or similar).

Partners enrolled in the CBA through UIC would hold a CI and be authorized for incidental take and assurances for the Covered Species on non-Federal lands. Where enrolled partners have property interests across Federal lands, incidental take may be authorized through Section 7 of the ESA. The biological opinion and conference opinion the Service will prepare for this CBA can inform and help streamline future consultations involving partners' activities on Federal lands. The conservation strategy contained in this CBA creates a net conservation benefit, giving partners a high degree of certainty that additional conservation measures or limitations, above those contained in the CBA and CIs, will not be required in the future for Covered Species on Federal lands.

The conservation measures in this agreement were designed to meet the net conservation benefit standard specifically for lands managed by the energy and transportation sectors. Unlike many other lands in the U.S., those lands are already actively managed to prevent the growth of trees and woody vegetation. This results in lands that are generally maintained as grassland, meadow, prairie, or shrub-scrub type habitats, all of which provide habitat for species, such as the bumble bee species covered in the CBA, that depend on early successional plant communities and structures. We have worked with UIC to design conservation measures expected to have a net conservation benefit to the Covered Species within the covered area; however, landowners and enrollees would not have to conduct every conservation measure in this list for their actions to have a net conservation benefit on the Covered Species. To maintain a net conservation benefit, each partner must use selected conservation measures to create and maintain a proportion of their enrolled lands as bumble bee habitat each year. Each partner will need to follow their individual CIs and the conservation measures included within. Some examples of these conservation actions include the following: (1) establishing and using native seed mixes containing a diversity of native wildflowers, (2) avoidance of known or observed nest sites, (3) removing woody plants in densely covered shrub areas and invasive plant species to promote grassland habitats, (4) sustaining idle lands with suitable habitat for bumble bees, (5) using conservation mowing to enhance floral resources and habitat.

Covered Area

This agreement encompasses a covered area consisting of energy and transportation lands within the Covered Species' ranges across the lower 48 states of the U.S. Within this covered area, Partners may enroll their energy and transportation lands. Although the covered area spans 48 United States, only a portion of this area will be enrolled in the agreement. Enrollment of lands under this agreement is voluntary. The partners reasonably expect that Covered Species may occur in all or a portion of habitats on enrolled lands where management actions will be undertaken in accordance with this agreement. This agreement will cover those properties that have existing, historic, or potential suitable habitat for Covered Species across their range. Enrolled lands may include all or some combination of suitable habitat types or areas with the potential to create those habitats.

National Environmental Policy Act Compliance

This issuance of a section 10(a)(1)(A) permit is a federal action subject to NEPA compliance. The Service's decision on whether to enter the proposed CBA is a federal action subject to NEPA compliance. The UIC's proposed CBA and related application for the EOS permit is eligible for categorical exclusion under NEPA.

As required by NEPA, we considered impacts to the human environment that would result from issuance of the requested permit. Entering the CBA is strictly a voluntary action for landowners, and the covered activities under the permit are generally activities already occurring on these properties (e.g., general operations, vegetation management, and maintenance and minor modernization activities within existing rights-of-way and associated lands). As explained in the categorical exclusion checklist, we believe the agreement will cause no or negligible environmental disturbance and qualifies for categorical exclusion under NEPA as provided by the Department of the Interior Manual (516 DM 8.5(c)(1)). The proposed CBA sustains, creates, and enhances Covered Species foraging, nesting, and overwintering habitat; addresses ongoing maintenance and minor modernization activities; and does not include construction and land disturbing activities that pose significant environmental, socioeconomic, historical or cultural impacts (e.g., new interstate highways, new pipelines, new transmission lines, new rail routes, or similar). Therefore, we are proposing to categorically exclude this action from further analysis under NEPA.

Next Steps

We specifically request information and comments from the public via this notice on our proposed Federal action to enter the proposed CBA and issue an EOS permit for the Covered Species. Further, we specifically solicit information regarding the adequacy of the agreement per 50 CFR parts 13 and 17.

We will evaluate the enhancement of survival permit application, including the agreement and any comments we receive, to determine whether the application meets the requirements of section 10(a)(1)(A) of the ESA. We will also evaluate whether the section 10(a)(1)(A) enhancement of survival permit would comply with section 7 of the ESA by conducting an intra-Service section 7 consultation. If we determine that the requirements are met, we will issue a permit under section 10(a)(1)(A) of the ESA to UIC in accordance with the applicable regulatory requirements. We will not make our final decision until after the end of the 30-day comment period and will fully consider all comments received during the comment period.

Public Availability of Comments

All comments we receive become part of the public record associated with this action. If you submit a comment at https://www.regulations.gov, your entire comment, including any personal identifying information, will be posted on the website. If you submit a comment that includes personal identifying information, such as your address, phone number, or email address, you should be aware that your entire comment, including your personal identifying information, may be made publicly available at any time. While you can ask us in your comment to withhold your personal identifying information from public review, we cannot guarantee that we will be able to do so. Moreover, all submissions from organizations or businesses, and from individuals identifying themselves as representatives or officials of organizations or businesses, will be made available for public disclosure in their entirety.

Authority

We provide this notice under section 10(c) of the Endangered Species Act (16 U.S.C. 1531 et seq.) and its implementing regulations (50 CFR 17.22) and the National Environmental Policy Act (42 U.S.C. 4321 et seq.).

Sean Marsan,
Acting Assistant Regional Director, Midwest Region, U.S. Fish and Wildlife Service.

[FR Doc. 2026-01258 Filed 1-22-26; 8:45 am]

BILLING CODE 4333-15-P